COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products to the Procurement List that will be furnished by nonprofit agencies employing persons who are blind or have other severe disabilities, and deletes products from the Procurement List previously furnished by such agencies.

DATES: Effective Date: 8/11/2014.

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 5/16/2014 (79 FR 28490-28491) and 6/6/2014 (79 FR 32716-32718), the Committee for Purchase From People Who Are Blind or Severely Disabled published notices of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN: 7510-00-290-2026—Tape, Masking & Packaging, General Purpose

NPA: Cincinnati Association for the Blind, Cincinnati, OH

Contracting Activity: General Services Administration, New York, NY

Coverage: A-List for the Total Government Requirement as aggregated by the General Services Administration, New York, NY.

Dry Erase White Board

NSN: 7110-00-NIB-2207—Magnetic Porcelain Surface, Mahogany Finish, Top-Bottom-Side Rails, 36″ x 24″

NSN: 7110-01-334-7078—Magnetic Porcelain Surface, Oak Finish, 24″ x 18″

NSN: 7110-01-334-7081—Magnetic Porcelain Surface, Oak Finish, 60″ x 36″

Coverage: B-List for the Broad Government Requirement, as aggregated by the General Services Administration, Arlington, VA.

NSN: 7110-00-NIB-2201—Magnetic Porcelain Surface, Mahogany Finish, 36″ x 24″

NSN: 7110-00-NIB-2202—Magnetic Porcelain Surface, Mahogany Finish, 48″ x 36″

NSN: 7110-00-NIB-2203—Magnetic Porcelain Surface, Mahogany Finish, 72″ x 48″

NSN: 7110-00-NIB-2204—Melamine Surface, Oak Finish, 36″ x 24″

NSN: 7110-00-NIB-2205—Melamine Surface, Oak Finish, 48″ x 36″

NSN: 7110-00-NIB-2208—Magnetic Porcelain Surface, Mahogany Finish, Top-Bottom-Side, 48″ x 36″

NSN: 7110-00-NIB-2209—Magnetic Porcelain Surface, Mahogany Finish, Top-Bottom-Side Rails, 72″ x 48″

NSN: 7110-01-334-7079—Magnetic Porcelain Surface, Oak Finish, 36″ x 24″

NSN: 7110-01-334-7080—Magnetic Porcelain Surface, Oak Finish, 48″ x 36″

NSN: 7110-01-334-7082—Magnetic Porcelain Surface, Oak Finish, 72″ x 48″

Coverage: A-List for the Total Government Requirement, as aggregated by the General Services Administration, Arlington, VA.

NPA: The Lighthouse for the Blind, Inc. (Seattle Lighthouse), Seattle, WA

Contracting Activity: General Services Administration, FSS Household and Industrial Furniture, Arlington, VA

NSN: 5120-00-900-6103—Hammer—3 lb, Cross-Peen, 15″ Fiberglass Handle, Cushioned Grip

NPA: Keystone Vocational Services, Inc., Sharon, PA

Contracting Activity: General Services Administration, Kansas City, MO

Coverage: B-List for the Broad Government Requirement as aggregated by the General Services Administration, Kansas City, MO.

NSN: MR 896—Turner, Flexible, Thin, 11.5″ X 12″ X 4″

NSN: MR 335—Squeezer, Citrus, Aluminum

NSN: MR 332—Peeler, Corn

NSN: MR 331—Pitter, Cherry and Olive

NPA: Cincinnati Association for the Blind, Cincinnati, OH

NSN: MR 604—Drinking Straws, Flexible, Clear, 180ct

NSN: MR 10674—Funnel, Collapsible

NSN: MR 10679—Baster, Bottletop

NSN: MR 10663—Pouf Balls, Bath, Toddler

NPA: Winston-Salem Industries for the Blind, Inc., Winston-Salem, NC

NSN: MR 399—Set, Cookie Cutter, Assorted, 3PC

NPA: Industries for the Blind, Inc., West Allis, WI

Contracting Activity: Defense Commissary Agency, Fort Lee, VA

Coverage: C-List for the requirements of military commissaries and exchanges as aggregated by the Defense Commissary Agency, Fort Lee, VA.

NSN: 6850-01-560-6131—Calcium, Lime, and Rust Remover, 5 GL

NPA: The Lighthouse for the Blind, St. Louis, MO

Contracting Activity: Defense Logistics Agency Aviation, Richmond, VA

Coverage: A-List for the Total Government Requirement as aggregated by the Defense Logistics Agency Aviation, Richmond, VA.

Deletions

On 6/6/2014 (79 FR 32716-32718), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

Ergo Aluminum Broom Handle & Mophead

NSN: 7920-01-503-1669

NSN: 7920-01-503-1670

NSN: 7920-01-503-1671

NSN: 7920-01-503-1672

NSN: 7920-01-503-5365

NSN: 7920-01-503-5366

NSN: 7920-01-503-5367

NPA: Industries for the Blind, Inc., West Allis, WI

Contracting Activities: Department Of Veterans Affairs, NAC, Hines, IL

General Services Administration, Fort Worth, TX

Barry S. Lineback,
Director, Business Operations.

[FR Doc. 2014-16231 Filed 7-10-14; 8:45 am]

BILLING CODE 6353-01-P